DEPARTMENT OF COMMERCE

National Oceanic and Atmospheric Administration

RIN 0648-XA179

Endangered Species; File No. 14726

AGENCY: National Marine Fisheries Service (NMFS), National Oceanic and Atmospheric Administration (NOAA), Commerce.

ACTION: Notice; receipt of application for permit modification.

SUMMARY: Notice is hereby given that Blair Witherington, PhD, Florida Fish and Wildlife Conservation Commission, 9700 South A1A, Melbourne Beach, FL 32951, has requested a modification to scientific research Permit No. 14726.

DATES: Written, telefaxed, or e-mail comments must be received on or before March 7, 2011.

ADDRESSES: The application and related documents are available for review by selecting “Records Open for Public Comment” from the Features box on the Applications and Permits for Protected Species (APPS) home page, https://apps.nmfs.noaa.gov, and then selecting File No. 14726-01 from the list of available applications.

These documents are also available upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, FL 33701; phone (727) 824-5312; fax (727) 824-5309.

Written comments on this application should be submitted to the Chief, Permits, Conservation and Education Division, at the above address. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Amy Hapeman or Kristy Beard, (301) 713-2289.

SUPPLEMENTARY INFORMATION: The subject modification to Permit No. 14726 is requested under the authority of the Endangered Species Act of 1973, as amended (16 U.S.C. 1531 et seq.) and the regulations governing the taking, importing, and exporting of endangered and threatened species (50 CFR 222-226).

Permit No. 14726, issued on September 3, 2010 (75 FR 61133), authorizes research to locate and describe areas of the Atlantic Ocean and Gulf of Mexico near Florida that serve as developmental habitat for pelagic-stage juvenile and neonate loggerhead (Caretta caretta), green (Chelonia mydas), Kemp's ridley (Lepidochelys kempii), hawksbill (Eretmochelys imbricata), and leatherback (Dermochelys coriacea) sea turtles, to quantify threats to pelagic sea turtles, and to gather information on their life-history, genetics, movements, behavior, and diet. Researchers are authorized to capture by dip net, flipper and passive integrated transponder tag, measure, weigh, and oral swab sea turtles. A subset of animals may be skin biopsied, lavaged or have a satellite tag attached.

Dr. Witherington requests a modification to the permit to: (1) Increase the number and life stages of sea turtles (up to 600 loggerheads, 550 greens, 100 hawksbills, and 550 Kemp's ridleys) that may be taken annually; (2) authorize fecal sampling for all animals and satellite tagging for a subset of green sea turtles; and (3) expand the authorized study area to include the entire Gulf of Mexico. This work would (1) identify threats to pelagic sea turtles, and (2) document the density, condition, diet, and potential Mississippi Canyon 252 oil exposure of pelagic sea turtles associated with floating Sargassum as part of the post-spill Natural Resources Damage Assessment of the BP Deepwater Horizon event. The modification would be valid through December 31, 2011.

Dated: January 28, 2011.
Tammy C. Adams,
Acting Chief, Permits, Conservation and Education Division, Office of Protected Resources, National Marine Fisheries Service.

[FR Doc. 2011-2393 Filed 1-31-11; 4:15 pm]

BILLING CODE 3510-22-P